DEPARTMENT OF COMMERCE

National Oceanic and Atmospheric Administration

[I.D. 082401C]

North Pacific Fishery Management Council; Public Meetings

AGENCY: National Marine Fisheries Service (NMFS), National Oceanic and Atmospheric Administration (NOAA), Commerce.

ACTION: Notice of public meeting.

SUMMARY: The North Pacific Fishery Management Council (NPFMC) will hold an essential fish habitat (EFH) committee meeting to review NMFS draft summary of EFH scoping comments, to identify significant issues and preliminary alternatives, and to determine staffing needs.

DATES: The EFH committee will meet at 12:30 p.m. to 5:30 p.m. on Tuesday, September 18, 2001, and at 8 a.m. to 5 p.m. on Wednesday, September 19, 2001.

ADDRESSES: The committee will meet in Sitka, AK, at the Northern Southeast Regional Aquaculture Association (NSRAA), 1308 Sawmill Creek Road, in the conference room.

Questions should be addressed to NMFS, Habitat Conservation Division, ATTN: Cindy Hartmann, 709 West 9th , Suite 461, P.O. Box 21668, Juneau, AK 99802-1668.

Council address: North Pacific Fishery Management Council, 605 W. 4th Avenue, Suite 306, Anchorage, AK 99501-2252.

FOR FURTHER INFORMATION CONTACT: Cindy Hartmann, NMFS, (907) 586-7585, e-mail: Cindy.Hartmann@noaa.gov; or Cathy Coon, NPFMC, (907) 271-2809, e-mail: Cathy.Coon@noaa.gov.

SUPPLEMENTARY INFORMATION:

Background

The NPFMC’s EFH committee was formally established by the NPFMC's acting executive director in May 2001. The committee was established in response to the need to prepare a supplemental environmental impact statement (SEIS) for the EFH fishery management plan amendments. For further information about the SEIS, see the notice of intent to prepare an SEIS published in the Proposed Rules section of the Federal Register (66 FR 30396, June 6, 2001).

The function of the EFH Committee is to serve as a steering committee for the EFH EIS process. The Committee’s overarching goal is to facilitate input by the industry, conservation community, Council, and general public to the EFH EIS process. More specifically, the Committee will assist in identifying: (1) The “significant issues” used to develop and evaluate proposed alternatives; (2) The alternatives for describing, identifying, and protecting EFH; (3) The means of determining possible fishery impacts on habitat; (4) and Interpreting existing information for development and analysis of alternatives; (5) The alternatives for mitigating fishing gear impacts on habitat; (6) Alternative criteria and approaches that could be used to designate and manage HAPC areas; and (7) Identify and prioritize future research needs. Additionally, the committee will assist the agency with appointing and working with technical teams. This will be the third meeting of the EFH Committee. Prior meetings were held May 30 and August 13 and 14, 2001.

Agenda items for this meeting include:

1. Discussion of NMFS preliminary draft scoping report;

2. Committee recommendations to the NPFMC on significant issues;

3. Discussion of technical teams and their composition; and

4. EFH Committee tasks, timetable and next meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Cindy Hartmann, (907) 586-7235, at least 5 working days prior to the meeting date.

Dated: August 24, 2001.
Richard W. Surdi,
Acting Director, Office of Sustainable Fisheries, National Marine Fisheries Service.

[FR Doc. 01-22069 Filed 8-30-01; 8:45 am]

BILLING CODE 3510-22-S